INTERNATIONAL TRADE COMMISSION

[Investigation No. 337-TA-684]

In the Matter of Certain Articulated Coordinate Measuring Arms and Components Thereof; Notice of a Commission Determination Not To Review an Initial Determination Terminating the Investigation Based on a Settlement Agreement

AGENCY: U.S. International Trade Commission.

ACTION: Notice.

SUMMARY: Notice is hereby given that the U.S. International Trade Commission has determined not to review an initial determination (“ID”) (Order No. 10) of the presiding administrative law judge (“ALJ”) terminating the above-captioned investigation based on a settlement agreement.

FOR FURTHER INFORMATION CONTACT: Michael Liberman, Esq., Office of the General Counsel, U.S. International Trade Commission, 500 E Street, SW., Washington, DC 20436, telephone (202) 205-3115. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 28, 2009, based on a complaint filed by Hexagon Metrology AB of Stockholm, Sweden, and Hexagon Metrology, Inc. of North Kingstown, Rhode Island alleging a violation of section 337 in the importation, sale for importation, and sale within the United States after importation of certain articulated coordinate measuring arms or components thereof by reason of infringement of certain claims of U.S. Patent No. 5,829,148. 74 FR 44384-85 (August 28, 2009). The complainant named Metris N.V. of Leuven, Belgium and Metris U.S.A., Inc. of Brighton, Michigan, and Mitutoyo Corporation of Kanagawa, Japan and Mitutoyo America Corporation of Aurora, Illinois as respondents.

On December 15, 2009, all the private parties to the investigation jointly moved to terminate the investigation without prejudice based on a settlement agreement. The Commission investigative attorney supported the motion provided the private parties submit appropriately redacted public versions of the agreements. The private parties filed public versions of their agreements on December 28, 2009.

On January 5, 2010, the ALJ issued an ID (Order No. 10) granting the motion. No party petitioned for review of the ID, and the Commission has determined not to review it.

The authority for the Commission's determination is contained in section 337 of the Tariff Act of 1930, as amended, 19 U.S.C. 1337, and in sections 210.21 and 210.42(h) of the Commission's Rules of Practice and Procedure, 19 CFR 210.21, 210.42(h).

Issued: January 27, 2010.
By order of the Commission.
Marilyn R. Abbott,
Secretary to the Commission.

[FR Doc. 2010-2073 Filed 2-1-10; 8:45 am]

BILLING CODE P